DEPARTMENT OF TRANSPORTATION

Research and Special Programs Administration

Office of Hazardous Materials Safety Notice of Application for Modification of Exemption

AGENCY: Research and Special Programs Administration, DOT.

ACTION: List of applications for modification of exemptions.

SUMMARY: In accordance with the procedures governing the application for, and the processing of, exemptions from the Department of Transportation's Hazardous Materials Regulations (49 CFR Part 107, Subpart B), notice is hereby given that the Office of Hazardous Materials Safety has received the applications described herein. This notice is abbreviated to expedite docketing and public notice. Because the sections affected, modes of transportation, and the nature of application have been shown in earlier Federal Register publications, they are not repeated here. Requests for modifications of exemptions (e.g. to provide for additional hazardous materials, packaging design changes, additional modes of transportation, etc.) are described in footnotes to the application number. Application numbers with the suffix “M” denote a modification request. These applications have been separated from the new applications for exemptions to facilitate processing.

DATES: Comments must be received on or before May 16, 2003. Address comments to: Records Center, Research and Special Programs Administration, U.S. Department of Transportation, Washington, DC 20590.

Comments should refer to the application number and be submitted in triplicate. If confirmation of receipt of comments is desired, include a self-addressed stamped postcard showing the exemption number.

FOR FURTHER INFORMATION CONTACT: Copies of the applications are available for inspection in the Records Center, Nassif Building, 400 7th Street, SW., Washington, DC or at http://dms.dot.gov.

This notice of receipt of applications for modification of exemptions is published in accordance with Part 107 of the Federal hazardous materials transportation law (49 U.S.C. 5117(b); 49 CFR 1.53(b)).

Issued in Washington, DC, on April 25, 2003.
R. Ryan Posten,
Exemptions Program Officer, Office of Hazardous Materials, Exemptions and Approvals.

Application No. | Docket No. | Applicant | Modification of exemption
6614-M |  | Auto-Chlor System, Memphis, TN (See Footnote 1) | 6614
8451-M |  | ATK Thiokol, Brigham City, UT (See Footnote 2) | 8451
10996-M |  | AeroTech, Inc. (Industrial Solid Propulsion, Inc.), Las Vegas, NV (See Footnote 3) | 10996
11827-M |  | Blue Express, Inc., Osaka, 590-0960, Japan (See Footnote 4) | 11827
11990-M | RSPA-97-3098 | Taylor-Wharton, Huntsville, AL (See Footnote 5) | 11990
12122-M | RSPA-98-4313 | Atlantic Research Corporation, Knoxville, TN (See Footnote 6) | 12122
13216-M |  | General Motors Corp./Autoliv ASP, Inc., Ogden, UT (See Footnote 7) | 13216
¹ To modify the exemption to authorize the transportation of Class 3, Division 5.1 and additional Class 8 materials in non-DOT specification polyethylene bottles placed in a polyethylene crate.
² To modify the exemption to authorize the transportation of certain liquid explosives.
³ To modify the exemption to authorize the transportation of an additional Division 1.4C material in certain rocket motor and rocket motor reloading kits.
⁴ To modify the exemption to authorize the transportation of an additional Division 6.1 material in certain lined DOT Specification portable tanks and UN Standard Intermediate Bulk Containers.
⁵ To modify the exemption to authorize the use of non-DOT specification oil well sampling cylinders without pressure relief devices or burst discs and the transportation of additional Division 2.1 materials.
⁶ To modify the exemption to eliminate the requirement for the 100% radiographic inspection of the non-DOT specification pressure vessel longitudinal weld seam used as a component of automobile vehicle safety systems.
⁷ To reissue the exemption originally issued on an emergency basis for the shipment of “recalled” airbag modules from auto dealerships without general awareness/familiarization training.

[FR Doc. 03-10699 Filed 4-30-03; 8:45 am]

BILLING CODE 4910-60-M